DEPARTMENT OF DEFENSE

Department of the Navy

Notice of Virtual Public Meetings for the Draft Environmental Impact Statement for Testing and Training Activities in the Patuxent River Complex

AGENCY: Department of the Navy, DoD.

ACTION: Notice.

SUMMARY: Pursuant to the National Environmental Policy Act of 1969, as implemented by the Council on Environmental Quality, the Department of the Navy (DON) has prepared and filed with the United States Environmental Protection Agency a Draft Environmental Impact Statement (EIS) for Testing and Training Activities in the Patuxent River Complex (PRC), Naval Air Station (NAS) Patuxent River, Maryland. The Draft EIS evaluates the potential environmental effects of continuing to conduct military research, development, test and evaluation (also referred to as “testing”) and training activities within the PRC. Activities include those analyzed in the December 1998 PRC Final EIS and subsequent environmental assessments, as well as adjustments to current testing and training activities required to support projected DON military readiness requirements into the foreseeable future. This notice announces the public review and comment period and the dates of the virtual public meetings, includes information about how the public can review and comment on the document, and provides supplementary information about the environmental planning effort.

DATES: The 45-day public comment period begins April 30, 2021 and ends June 15, 2021. To be considered in the Final EIS, all comments must be postmarked or received online by 11:59 p.m. Eastern Daylight Time on June 15, 2021. Due to current Federal and State guidance on social distancing and travel and public event restrictions in response to COVID-19, the DON is holding virtual public meetings, consisting of a presentation and question and answer sessions, to discuss the proposed action and the draft environmental analysis. Visit the project website at www.PRCEIS.com to learn more about and to view and attend the virtual public meetings. Public meeting materials will be posted on the project website and copies may be obtained by phone at 301-342-9902.

The virtual public meetings will occur as follows:

1. Tuesday, May 18, 2021, from 6 to 7 p.m. Eastern Daylight Time

2. Wednesday, May 19, 2021, from 12 to 1 p.m. Eastern Daylight Time

Substantive questions for discussion with DON representatives at the virtual public meetings can be submitted between May 10 and 17, 2021 for the May 18 and 19, 2021 meetings by completing the form at www.PRCEIS.com.

ADDRESSES:

Written comments may be mailed to Naval Air Warfare Center Aircraft Division Range Sustainability Office, Atlantic Ranges and Targets Department, Attention: PRC EIS Project Manager, 23013 Cedar Point Road, Building 2118, Patuxent River, MD 20670-1183, 301-342-9902, or submitted electronically via the project website at www.PRCEIS.com. All comments submitted during the 45-day public comment period will become part of the public record, and substantive comments will be considered in the Final EIS. Federal, state, and local agencies and officials, and other interested organizations and individuals are encouraged to provide comments on the Draft EIS during the 45-day public comment period.

FOR FURTHER INFORMATION CONTACT: Naval Air Warfare Center Aircraft Division Range Sustainability Office, Atlantic Ranges and Targets Department, Attention: Ms. Crystal Ridgell, PRC EIS Project Manager, 23013 Cedar Point Road, Building 2118, Patuxent River, MD 20670-1183, 301-342-9902, or project website at www.PRCEIS.com.

SUPPLEMENTARY INFORMATION: The DON distributed the Draft EIS to federal agencies with which the DON is consulting and to other stakeholders, provided press releases to local newspapers, and distributed letters and postcards to stakeholders, Native American Tribes, and other interested parties. Copies of the Draft EIS are available for public review at the following public libraries:

1. St. Mary's County Library, Lexington Park Branch, 21677 FDR Blvd., Lexington Park, MD 20653-0048

2. St. Mary's County Library, Charlotte Hall Branch, 37600 New Market Rd., Charlotte Hall, MD 20622-3041

3. Calvert Library Southern Branch, 13920 H G Trueman Rd., Solomons, MD 20688-0521

4. Lancaster Community Library, 16 Town Centre Dr., Kilmarnock, VA 22482-3901

5. Northumberland Public Library, 7204 Northumberland Hwy., Heathsville, VA 22473-3326

6. Dorchester County Central Library, 303 Gay St., Cambridge, MD 21613-1812

7. Somerset County Library, Princess Anne Branch, 11767 Beechwood St., Princess Anne, MD 21853-1118

Depending upon COVID-19 conditions regulating access to public facilities, it is recommended to check with the library regarding its hours of operation and the availability of the document. The PRC Draft EIS is also available for electronic viewing or download at www.PRCEIS.com. A compact disc of the Draft EIS will be made available upon request by contacting 301-342-9902.

Dated: April 23, 2021.
K.R. Callan,
Commander, Judge Advocate General's Corps, U.S. Navy, Federal Register Liaison Officer.

[FR Doc. 2021-08896 Filed 4-29-21; 8:45 am]

BILLING CODE 3810-FF-P